DEPARTMENT OF TRANSPORTATION

Office of the Secretary

Aviation Proceedings, Agreements Filed the Week Ending December 12, 2003

The following Agreements were filed with the Department of Transportation under the provisions of 49 U.S.C. 412 and 414. Answers may be filed within 21 days after the filing of the application.

Docket Number: OST-2003-16671.

Date Filed: December 9, 2003.

Parties: Members of the International Air Transport Association.

Subject: PTC23 EUR-SASC 0115 dated December 5, 2003, TC23 Europe-South Asian Subcontinent Expedited Resolutions 002ae, 002cd, 070h r1-r3, Intended effective date January 15, 2004.

Docket Number: OST-2003-16708.

Date Filed: December 11, 2003.

Parties: Members of the International Air Transport Association.

Subject: Mail Vote 345, PTC COMP 1111 dated December 12, 2003, PTC1/2/3/12/23/31/123, General Increase Resolution 002mm (amending) (except within Europe, between USA/US Territories and Austria, Chile, Czech Republic, Finland, France (including French Guiana, French Polynesia, Guadeloupe, Martinique, New Caledonia, Reunion, Saint Pierre and Miquelon), Germany, Iceland, Italy, Korea (Rep. of), Malaysia, Netherlands, New Zealand, Panama, Scandinavia, Switzerland), Intended effective date: January 1, 2004.

Andrea M. Jenkins,
Program Manager, Docket Operations, Federal Register Liaison.

[FR Doc. 03-31886 Filed 12-24-03; 8:45 am]

BILLING CODE 4910-62-P